NUCLEAR REGULATORY COMMISSION

[Docket No. 70-1257]

Framatome ANP Richland, Inc.; Notice of Consideration of Request for Consent To Transfer of Facility License and Conforming Amendment and Opportunity for Hearing

AGENCY: U.S. Nuclear Regulatory Commission.

ACTION: Notice of consideration of request for consent to transfer of facility license and conforming amendment and opportunity for hearing.

SUMMARY: The U.S. Nuclear Regulatory Commission (the Commission) is considering the issuance of a letter of consent and an amendment pursuant to Part 70 to Title 10 of the Code of Federal Regulations approving the transfer of Materials License SNM-1227 held by Framatome ANP Richland, Inc. as the owner and responsible licensee. The facility is authorized to use Special Nuclear Material (SNM) for the fabrication of nuclear fuel pellets and fuel assemblies and operates in Richland, WA. The transfer would be from Framatome ANP Richland, Inc. to its parent company, Framatome ANP, Inc.

FOR FURTHER INFORMATION CONTACT: Mohammad W. Haque, Project Manager, Fuel Cycle Licensing Branch, Division of Fuel Cycle and Safeguards, Office of Nuclear Material Safety and Safeguards, U.S. Nuclear Regulatory Commission, Washington, DC 20555, telephone: (301) 415-6640, e-mail mwh1@nrc.gov.

SUPPLEMENTARY INFORMATION: The U.S. Nuclear Regulatory Commission (the Commission) is considering the issuance of a letter of consent and an amendment pursuant to Part 70 to Title 10 of the Code of Federal Regulations approving the transfer of Materials License SNM-1227, held by Framatome ANP Richland, Inc. as the owner and responsible licensee, to its parent company, Framatome ANP, Inc. The facility is authorized to use Special Nuclear Material (SNM) for the fabrication of nuclear fuel pellets and fuel assemblies and operates in Richland, WA.

The transfer is necessitated by the planned merger of Framatome ANP Richland, Inc., into its parent company Framatome ANP, Inc. Upon closing of the transaction, Framatome ANP Richland, Inc., will operate under the name Framatome ANP, Inc. The Commission is considering Framatome ANP Richland, Inc.'s application and request, dated May 31, 2001, for Commission consent to the transfer of Materials License SNM-1227 to Framatome ANP, Inc. effective upon the closing of the transaction, and a license amendment for administrative purposes to reflect the proposed transfer.

According to Framatome ANP Richland, Inc.'s application dated May 31, 2001, there will be no changes affecting the existing health and safety programs, qualifications of safety personnel, equipment and facilities, or any other existing license requirements. All the present obligations of Framatome ANP Richland, Inc., under the current license will pass unchanged to Framatome ANP, Inc., with the exception of the form of financial assurance for decommissioning. Framatome ANP Richland, Inc.'s application includes an unexecuted letter of credit and a standby third-party trust agreement, and a commitment to provide fully executed documents before the closing date.

The proposed license amendment would change the name of the licensee from Framatome ANP Richland, Inc. to Framatome ANP, Inc. for administrative purposes to reflect the proposed transfer.

Pursuant to 10 CFR 70.36, no license granted under the regulations in Part 70 and no right to possess or utilize special nuclear material granted by any license issued pursuant to the regulations in Part 70 shall be transferred, assigned or in any manner disposed of, either voluntarily or involuntarily, directly or indirectly, through transfer of control of any license to any person unless the Commission gives its prior consent in writing. The Commission will approve an application for the transfer of a license if the Commission determines that the proposed transferee is qualified to hold the license, and that the transfer is otherwise consistent with applicable provisions of law, regulations, and orders issued by the Commission pursuant thereto.

Before issuance of the proposed conforming license amendment, the Commission will make the findings required by the Atomic Energy Act of 1954, as amended (the Act), and the Commission's regulations.

The filing of requests for hearing and petitions for leave to intervene, and written comments with regard to the license transfer application, are discussed below.

By (20 days after publication), any person whose interest may be affected by the Commission's action on the application may request a hearing and, if not, the applicant may petition for leave to intervene in a hearing proceeding on the Commission's action. Requests for a hearing and petitions for leave to intervene should be filed in accordance with the Commission's rules of practice set forth in Subpart M, “Public Notification, Availability of Documents and Records, Hearing Requests and Procedures for Hearings on License Transfer Applications,” of 10 CFR Part 2. In particular, such requests and petitions must comply with the requirements set forth in 10 CFR 2.1306, and should address the considerations contained in 10 CFR 2.1308(a). Untimely requests and petitions may be denied, as provided in 10 CFR 2.1308(b), unless good cause for failure to file on time is established. In addition, an untimely request or petition should address the factors that the Commission will also consider, in reviewing untimely requests or petitions, set forth in 10 CFR 2.1308(b)(1)-(2).

Requests for a hearing and petitions for leave to intervene should be served upon: Mr. R.S. Freeman, Manager, Environmental, Health, Safety and Licensing, Framatome ANP Richland, Inc., 2101 Horn Rapids Road, Richland, WA 99352; the General Counsel, U.S. Nuclear Regulatory Commission, Washington, DC 20555 (e-mail address for filings regarding license transfer cases only: OGCLT@NRC.gov); and the Secretary of the Commission, U.S. Nuclear Regulatory Commission, Washington, DC 20555-0001, Attention: Rulemakings and Adjudications Staff, in accordance with 10 CFR 2.1313.

The Commission will issue a notice or order granting or denying a hearing request or intervention petition, designating the issues for any hearing that will be held and designating the Presiding Officer. A Notice granting a hearing will be published in the Federal Register and served on the parties to the hearing.

As an alternative to requests for hearing and petitions to intervene, by (30 days after publication), persons may submit written comments regarding the license transfer application, as provided for in 10 CFR 2.1305. The Commission will consider and, if appropriate, respond to these comments, but such comments will not otherwise constitute part of the decisional record. Comments should be submitted to the Secretary, U.S. Nuclear Regulatory Commission, Washington, DC 20555-0001, Attention: Rulemakings and Adjudications Staff, and should cite the publication date and page number of the Federal Register notice.

For further details with respect to this action, see the application dated May 31, 2001, available for public inspection at the Commission's Public Document Room at One White Flint North, 11555 Rockville Pike, Rockville, MD, and accessible electronically through the ADAMS Public Electronic Reading Room link at the NRC Web site(http://www.nrc.gov).

Dated at Rockville, Maryland this 12th day of June, 2001.
For the U.S. Nuclear Regulatory Commission.
Michael Lamastra,
Acting Chief, Fuel Cycle Licensing Branch, Division of Fuel Cycle Safety and Safeguards, Office of Nuclear Material Safety and Safeguards.

[FR Doc. 01-15269 Filed 6-15-01; 8:45 am]

BILLING CODE 7590-01-P